DEPARTMENT OF THE INTERIOR

Bureau of Indian Affairs

Advisory Board for Exceptional Children

AGENCY: Bureau of Indian Education, Interior.

ACTION: Notice of meeting.

SUMMARY: The Bureau of Indian Education (BIE) is announcing that the Advisory Board for Exceptional Children (Advisory Board) will hold its next meeting in Albuquerque, New Mexico. The purpose of the meeting is to meet the mandates of the Individuals with Disabilities Education Act of 2004 (IDEA) for Indian children with disabilities.

DATES: The Advisory Board will meet on Thursday, January 13, 2011, from 8:30 a.m. to 4:30 p.m. and Friday, January 14, 2011, from 8:30 a.m. to 4:30 p.m. Mountain Standard Time.

ADDRESSES: The meeting will be held at the Manuel Lujan, Jr. Indian Affairs Building, 1011 Indian School Road North West, Albuquerque, New Mexico 87104; telephone number (505) 563-5383.

FOR FURTHER INFORMATION CONTACT: Sue Bement, Designated Federal Official, Bureau of Indian Education, Albuquerque Service Center, Division of Performance and Accountability, 1011 Indian School Road, NW., Suite 332, Albuquerque, NM 87104; telephone number (505) 563-5274.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary-Indian Affairs, on the needs of Indian children with disabilities. The meetings are open to the public.

The following items will be on the agenda:

• Introduction of Advisory Board members.

• Appointment of Advisory Board Vice Chair.

• Report from Gloria Yepa, Supervisory Education Specialist, BIE, Division of Performance and Accountability.

• Report from BIE Director's Office.

• Report from Dr. Jeffrey Hamley, Associate Deputy Director, BIE.

• Stakeholder input on BIE Annual Performance Report.

• Public Comment (via conference call, January 14, 2011, meeting only*).

• Part B and C (0-5) Updates.

• Presentation by Casey Sovo, New Mexico South Education Line Officer.

• Panel discussion with Special Education faculty, Reading Coach and Math Coach from Sky City Community School, Acoma, New Mexico.

• BIE Advisory Board-Advice and Recommendations.

* During the January 13, 2011, meeting, time has been set aside for public comment via conference call from 1:30-2 p.m. Mountain Standard Time. The call-in information is: Conference Number 1-888-417-0376, Passcode 1509140.

Dated: December 23, 2010.
George T. Skibine,
Deputy Assistant Secretary—Indian Affairs.

[FR Doc. 2010-32931 Filed 12-29-10; 8:45 am]

BILLING CODE 4310-6W-P